DEPARTMENT OF COMMERCE

National Oceanic and Atmospheric Administration

[I.D. 042400E]

American Fisheries Act Recordkeeping and Reporting; Proposed Information Collection; Request for Comments

AGENCY: National Oceanic and Atmospheric Administration.

ACTION: Proposed collection; comment request.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before June 26, 2000.

ADDRESSES: Direct all written comments to Linda Engelmeier, Departmental Forms Clearance Officer, Department of Commerce, Room 5027, 14th and Constitution Avenue NW, Washington DC 20230 (or via Internet at lengelme@doc.gov).

FOR FURTHER INFORMATION CONTACT: Requests for additional information or copies of the information collection instrument(s) and instructions should be directed to Patsy A. Bearden, F/AK01, NOAA/NMFS, P.O. Box 21668, Juneau, AK 99802-1668 (907-586-7228).

SUPPLEMENTARY INFORMATION:

I. Abstract

The American Fisheries Act (AFA), signed into law in October 1998, established a new allocation program for the pollock fishery of the Bering Sea and Aleutian Islands Management Area (BSAI). NOAA issued an emergency interim rule to give immediate effect to all AFA-mandated management measures including new recordkeeping and reporting requirements for the BSAI pollock fishery, for processors that receive groundfish from AFA catcher vessels, and BSAI pollock fishery cooperatives formed under the AFA. These measures received emergency approval under the Paperwork Reduction Act, and NOAA is now seeking extension of that approval under normal clearance procedures.

II. Method of Collection

All documents are submitted or retained in paper form except for shoreside processor logbooks, which are submitted in electronic form.

III. Data

OMB Number: 0648-0401.

Form Number: None.

Type of Review: Regular submission.

Affected Public: Business or other for-profit institutions, individuals or households.

Estimated Number of Respondents: 22.

Estimated Time Per Response: 5 minutes to submit an AFA cooperative contract, 35 minutes per response for the shoreside processor electronic logbook, 4 hours per mothership and catcher/processor for at-sea scale documentation, 5 minutes for a cooperative pollock catch report, 8 hours for a cooperative preliminary report, and 8 hours for a cooperative final report.

Estimated Total Annual Burden Hours: 573.

Estimated Total Annual Cost to Public: $140.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: April 20, 2000.
Linda Engelmeier,
Departmental Forms Clearance Officer, Office of the Chief Information Officer.

[FR Doc. 00-10514 Filed 4-26-00; 8:45 am]

BILLING CODE 3510-22-F